DEPARTMENT OF DEFENSE

Department of the Army, Corps of Engineers

Notice of Intent To Prepare a Draft Environmental Impact Statement (DEIS) in Cooperation With the North Carolina Department of Transportation and South Carolina Department of Transportation for Extending SC 31 (Carolina Bays Parkway), in Horry County, South Carolina, To Connect to US 17, in Brunswick County, North Carolina

AGENCY: Department of the Army, U.S. Army Corps of Engineers.

ACTION: Notice of intent.

SUMMARY: The U.S. Army Corps of Engineers, Wilmington District, Wilmington Regulatory Division and the U.S. Army Corps of Engineers, Charleston District, Charleston Regulatory Division (collectively COE) are issuing this notice to advise the public that a State (North Carolina Department of Transportation [NCDOT] and South Carolina Department of Transportation [SCDOT]) funded Draft Environmental Impact Statement (DEIS) will be prepared for improvements to SC 31 starting near Little River, Horry County, South Carolina and running northeast to US 17, in an area between Calabash and Shallotte, Brunswick County, North Carolina. This project is called the “Carolina Bays Parkway Extension” and is NCDOT Project 44604 and SCDOT Project P029554. In accordance with the National Environmental Policy Act (NEPA), the COE is the lead Federal agency responsible for the preparation of the DEIS. Information included in the DEIS will serve as the basis for the COE's evaluation of the proposed project pursuant to Section 404 of the Clean Water Act (CWA). As directed by CEQ regulations implementing NEPA, the COE will cooperate with the NCDOT to the fullest extent possible to reduce duplication between NEPA and the North Carolina Environmental Policy Act of 1971 (SEPA). Therefore, the DEIS will also serve as the basis for the NCDOT's evaluation of the proposed project pursuant to SEPA. The DEIS will assess the potential effects of the proposed project and a range of reasonable project alternatives on impacts to navigable waters and other waters of the United States, including wetlands. The DEIS will also provide information for Federal, State, and local agencies having other jurisdictional responsibility.

FOR FURTHER INFORMATION CONTACT: Questions about the COE's review of the proposed action, including preparation of the DEIS, can be directed to Mr. Brad Shaver, Regulatory Project Manager (Wilmington District), Wilmington Regulatory Field Office, 69 Darlington Avenue, Wilmington, NC 28403, by telephone: (910) 251-4611, or by email at Brad.E.Shaver@USACE.army.mil or Mr. John Policarpo, Regulatory Project Manager (Charleston District), Charleston Regulatory Field Office, 69A Hagood Avenue, Charleston, SC 29403, by telephone: (843) 329-8043, or by email at John.N.Policarpo@USACE.army.mil. Questions about the NCDOT's involvement with the proposed project, including use of the DEIS for purposes of SEPA, can be directed to Ms. Kim Gillespie P.E., NCDOT Project Planning Engineer, telephone: (919) 707-6023. Questions about SCDOT's involvement with proposed project can be directed to Ms. Leah Quattlebaum P.E., SCDOT Program Manager, telephone (803) 737-1751.

SUPPLEMENTARY INFORMATION: The COE is evaluating a proposal from the NCDOT and SCDOT in accordance with Section 404 of the CWA and NEPA. Based on the available information, the COE has determined that the proposed project has the potential to significantly affect the quality of the human and natural environment, and therefore warrants the preparation of an EIS.

Description of the Proposed Project. The NCDOT and SCDOT are proposing transportation improvements from SC 31, in Little River, Horry County, South Carolina, to US 17, near Shallotte, Brunswick County, North Carolina. This proposed project is called the “Carolina Bays Parkway Extension” and is NCDOT Project 44604 and SCDOT Project P029554.

Based on the 2006 Feasibility Study, the Carolina Bays Parkway (CBP) Extension is needed to improve motorists' mobility and manage existing and future traffic congestion projected along US 17 and other roadways such as S-57/SR 1303 (Hickman Road) within Horry and Brunswick Counties. The preliminary project study area is roughly bounded on the southwest at the interchange of SC 31 and SC 9 near Little River, Horry County, South Carolina, and runs northeast near SR 1303 (Hickman Road) and finally along the existing US 17 corridor up to the Town of Shallotte, Brunswick County, North Carolina. The final project study area and purpose and need for the project will be further defined during development of the DEIS.

To the extent practicable and consistent with COE oversight, this project is expected to be reviewed using the same or similar procedures as set forth in the merger process, as implemented in the State of North Carolina. This merger process is a synchronized review process performing the various environmental review and permitting procedures or consultation requirements necessary for a proposed project in a concurrent fashion. The process would provide a forum for appropriate agency representatives to discuss and reach consensus on ways to facilitate meeting the regulatory requirements of Section 404 of the CWA during the NEPA/SEPA decision-making phase of transportation projects.

The CBP project has roots back to the 1980s and was revitalized with coordination in the 2000s culminating in a feasibility study produced in July of 2006. The feasibility study can be located on the project Web page at: https://www.ncdot.gov/projects/CBP/. The current effort by the COE, NCDOT and SCDOT anticipates a DEIS completed by 2020 and the Final Environmental Impact Statement (FEIS) completed by 2022.

Environmental consequences: CEQ regulations (40 CFR 1502.16) state the EIS will include the environmental impacts of the alternatives including the proposed action, any adverse environmental effects which cannot be avoided should the proposal be implemented, the relationship between short-term uses of man's environment and the maintenance and enhancement of long-term productivity, and any irreversible or irretrievable commitments of resources which would be involved in the proposal should it be implemented. The EIS will assess a reasonable number of alternatives and identify and disclose the direct impacts of the proposed project on the following: Topography, geology, soils, climate, biotic communities, wetlands, fish and wildlife resources, endangered and threatened species, hydrology, water resources and water quality, floodplains, hazardous materials, air quality, noise, aesthetics, recreational resources, historical and cultural resources, socioeconomics, land use, public health and safety, energy requirements and conservation, natural or non-renewable resources, drinking waters, and environmental justice.

Secondary and cumulative environmental impacts: Cumulative impacts result from the incremental impact of the proposed action when added to past, present, and reasonably foreseeable future actions, regardless of what agency or person undertakes the action. Geographic Information System (GIS) data and mapping will be used to evaluate and quantify secondary and cumulative impacts of the proposed project with particular emphasis given to wetlands and surface/groundwater resources.

Mitigation: CEQ regulations (40 CFR 1502.14, 1502.16, and 1508.20) require the EIS to include appropriate mitigation measures. The COE has adopted a mitigation policy which embraces the concepts of “no net loss of wetlands” and project sequencing. This policy supports the overall goal to restore and maintain the chemical, biological, and physical integrity of “Waters of the United States,” specifically wetlands. Mitigation of wetland impacts has been defined by the CEQ to include: Avoidance of impacts (to wetlands), minimizing impacts, rectifying impacts, reducing impacts over time, and compensating for impacts (40 CFR 1508.20). Each of these aspects (avoidance, minimization, and compensatory mitigation) must be considered in sequential order. As part of the EIS, and in accordance with CEQ regulations and COE regulations (33 CFR 320.4(r) and 33 CFR part 332), the NCDOT and SCDOT will develop a compensatory mitigation plan detailing the methodology and approach to compensate for unavoidable impacts to waters of the U.S., including streams and wetlands.

NEPA/SEPA Preparation and Permitting: The proposed project requires approvals from federal and state agencies under both the NEPA and the SEPA, respectively. Therefore, the COE will serve as the lead Federal agency for the NEPA process. The EIS will serve as the NEPA document for the COE, and as the SEPA document for the State of North Carolina.

Within the EIS, the COE will conduct a thorough environmental review, including an evaluation of a reasonable number of alternatives. After distribution and review of the Draft EIS, consideration of public comment, and issuance of a Final EIS, the Wilmington District and the Charleston District will produce a Federal ROD that will document the completion of the EIS process and serve as a basis for permitting decisions. In accordance with SEPA, the State of North Carolina will issue a separate NC State ROD.

To ensure that the full range of issues related to this proposed action are addressed and all significant issues identified, comments and suggestions are invited from all interested parties. Comments or questions concerning this proposed action and the EIS should be directed to the COE at the address provided. The Wilmington District and Charleston District will issue Public Notices consistent with CEQ requirements.

Dated: June 27, 2017.
Scott McLendon,
Chief, Regulatory Division.

[FR Doc. 2017-14214 Filed 7-5-17; 8:45 am]

BILLING CODE 3720-58-P